DEPARTMENT OF LABOR

Employment and Training Administration

[TA-W-65,281 et al.]

Notice of Termination of Investigation

TA-W-65,281

Acument Global Technologies—North America Business Unit Ring Screw LLC—Fenton Operations Fenton, Michigan

TA-W-65,281A

Acument Global Technologies—North America Business Unit Ring Screw LLC—Warren Operations Hupp Warren, Michigan

TA-W-65,281B

Acument Global Technologies—North America Business Unit Ring Screw LLC—Detroit Distribution Center Detroit, Michigan

TA-W-65,281C

Acument Global Technologies—North America Business Unit Ring Screw LLC—Holly Operations—North Holly Road Holly, Michigan

TA-W-65,281D

Acument Global Technologies—North America Business Unit Burkland Inc—Goodrich Operations Goodrich, Michigan

TA-W-65,281E

Acument Global Technologies—North America Business Unit Ring Screw LLC—Holly Operations—Gainey Drive Holly, Michigan

TA-W-65,281F

Acument Global Technologies—North America Business Unit Ring Screw LLC—Sterling Heights Operations Sterling Heights, Michigan

TA-W-65,281G

Acument Global Technologies Acument Global Technologies Inc Headquarters Troy, Michigan

Pursuant to Section 221 of the Trade Act of 1974, as amended, an investigation was initiated on February 18, 2009 in response to a worker petition filed by a company official on behalf of workers of Acument Global Technologies, North America Business Unit, Ring Screw, LLC, Fenton Operations, Fenton, Michigan (TA-W-65,281); Acument Global Technologies, North America Business Unit, Ring Screw LLC, Warren Operations Hupp, Warren, Michigan (TA-W-65,281A); Acument Global Technologies, North America Business Unit, Ring Screw LLC, Detroit Distribution Center, Detroit, Michigan (TA-W-65,281B); Acument Global Technologies, North America Business Unit, Ring Screw LLC, Holly Operations, North Holly Road, Holly, Michigan (TA-W-65,281C); Acument Global Technologies, North America Business Unit, Burkland, Inc., Goodrich Operations, Goodrich, Michigan (TA-W-65,281D); Acument Global Technologies, North America Business Unit, Ring Screw LLC, Holly Operations, Gainey Drive, Holly, Michigan (TA-W-65,281E); Acument Global Technologies, North America Business Unit, Ring Screw LLC, Sterling Heights Operations, Sterling Heights, Michigan (TA-W-65,281F); and Acument Global Technologies, Acument Global Technologies Inc. Headquarters, Troy, Michigan (TA-W-65,281G). Workers at the subject facilities are predominantly engaged in the manufacturing of fasteners for the automotive industry. Workers are also engaged in support activities, including producing washers and fastening tools for plants that produce fasteners and providing distribution and warehousing support for the production of fasteners.

The petitioner has requested that the petition be withdrawn. Consequently, the investigation has been terminated.

Signed at Washington, DC, this 25th day of March 2009.
Elliott S. Kushner,
Certifying Officer, Division of Trade Adjustment Assistance.

[FR Doc. E9-8923 Filed 4-17-09; 8:45 am]

BILLING CODE 4510-FN-P